DEPARTMENT OF TRANSPORTATION

Federal Aviation Administration

14 CFR Part 39

[Docket No. FAA-2005-22524; Directorate Identifier 2005-NM-135-AD]

RIN 2120-AA64

Airworthiness Directives; Airbus Model A330-200, A330-300, A340-200, and A340-300 Series Airplanes, and Model A340-541 and A340-642 Airplanes

AGENCY: Federal Aviation Administration (FAA), Department of Transportation (DOT).

ACTION: Supplemental notice of proposed rulemaking (NPRM); reopening of comment period.

SUMMARY: The FAA is revising an earlier NPRM for an airworthiness directive (AD) that would have applied to certain Airbus Model A330-200, A330-300, A340-200, and A340-300 series airplanes, and A340-541 and A340-642 airplanes. The original NPRM would have required inspecting to determine if certain emergency escape slides/slide rafts (referred to as slide/rafts) are installed in certain crew/passenger doors; and, if so, performing a one-time inspection to determine if the electrical harnesses of the slide/rafts are properly routed, and rerouting the harnesses if necessary. The original NPRM resulted from a report that a slide/raft failed to deploy properly during a deployment test. This action revises the original NPRM by expanding the applicability of the proposed AD. We are proposing this AD to detect and correct improper routing of the electrical harnesses of certain slide/rafts, which could prevent proper deployment of the slide/rafts and delay evacuation of passengers and flightcrew during an emergency.

DATES: We must receive comments on this supplemental NPRM by April 21, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this supplemental NPRM. Send your comments to an address listed in the ADDRESSES section. Include the docket number “Docket No. FAA-2005-22524; Directorate Identifier 2005-NM-135-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain Airbus Model A330-200, A330-300, A340-200, and A340-300 series airplanes, and A340-541 and A340-642 airplanes. The original NPRM was published in the Federal Register on September 27, 2005 (70 FR 56389). The original NPRM proposed to require inspecting to determine if certain emergency escape slides/slide rafts (referred to as slide/rafts) are installed in certain crew/passenger doors; and, if so, performing a one-time inspection to determine if the electrical harnesses of the slide/rafts are properly routed, and rerouting the harnesses if necessary.

Since the original NPRM was issued, we have determined that the applicability of the proposed AD was not properly written. As written, the applicability of the proposed AD would not have ensured that the unsafe condition would not recur if a slide/raft was ever replaced or reinstalled on any subject airplane.

Comments

We have considered the following comments on the original NPRM.

Request To Update Service Information

One commenter, the manufacturer, requests that we update the references to the applicable service information cited in the original NPRM. The commenter states that later revisions of two AOTs are available.

We agree with this request. We have reviewed Airbus All Operators Telex (AOT) A330-25A3272, Revision 02, and AOT A340-25A4259, Revision 02, both dated June 1, 2005. Both AOTs were revised to add a reference to French airworthiness directive F-2005-077, dated May 11, 2005, and to remove the reference to door 3 type A from paragraph 4.1. We have determined that these revisions of the AOTs should be referenced in the AD. Therefore, we have revised paragraphs (c), (f)(1)(ii), and (f)(2)(ii) of the AD to reflect the revised AOTs, and revised paragraph (g) of the AD to give credit for using Revision 01 of those AOTs.

Request To Clarify Applicability

The same commenter requests that we clarify the applicability of the original NPRM. The commenter states that airplanes delivered after March 17, 2005, which is the date of issuance of the original issues of the AOTs, are not subject to the inspection required by paragraph (f) of the AD, provided no slide/raft has been replaced on any such airplane. The commenter states that Revision 02 of all three AOTs, all dated June 1, 2005, specifies this exception.

We agree that the AOTs specify the exception noted by the commenter, and that an airplane supplied by the manufacturer after March 17, 2005, may not be subject to the unsafe condition. However, this will not ensure that the unsafe condition won't recur should an operator receive such an airplane and replace or reinstall any subject slide/raft on that airplane. Therefore, we have not revised the applicability of the original NPRM to reflect the specified exception; rather, this supplemental NPRM would require doing the actions specified in the AOTs. As operators must continue to operate the airplane in the configuration required by the supplemental NPRM, unless an alternative method of compliance is approved, this requirement would ensure that the actions specified in the AOTs would be accomplished on all subject airplanes. We have determined that it is necessary to expand the applicability of the original NPRM to ensure that the unsafe condition does not recur on any subject airplane; therefore, we have revised the applicability of the supplemental NPRM to cover all subject airplanes, certificated in any category. Further, in this supplemental NPRM, we have included a new paragraph (h) that would require performing any replacement or reinstallation of any subject slide/raft on any subject airplane in accordance with this AD. Accordingly, we have re-identified existing paragraphs (h) and (i) of the original NPRM as paragraphs (i) and (j) of this supplemental NPRM.

Request To Expand Applicability

The same commenter requests that we add two additional models of airplanes, Model A330-302 and A330-303, to the applicability of the original NPRM. The commenter gave no reason for this request.

We agree with this request. Model A330-302 and A330-303 airplanes may be subject to the same unsafe condition as all other airplanes identified in the original NPRM. We have revised the applicability of the supplemental NPRM accordingly.

Request To Expand Scope of NPRM

One commenter states that the one-time inspection specified in the original NPRM will not be effective in preventing future occurrences of misrouting of the slide/raft wiring harness. The commenter states it added a procedure to its aircraft maintenance program for inspecting the slide/raft wiring harness routing during every slide/raft assembly installation, and recommends that the FAA take steps to ensure that all affected operators establish maintenance procedures similar to those of the commenter. We infer that the commenter holds that the NPRM is not sufficient in scope and should be expanded.

We recognize the commenter's concern. The manufacturer is working on revisions to the airplane maintenance manual (AMM) to clarify the differences between the routing of the wiring harnesses on the left- and right-hand sides of the airplane, which will accomplish a function similar to that of the commenter's procedures. When the AMM has been revised, we may consider further rulemaking. However, we do not wish to delay correcting the unsafe condition until the manufacturer issues new service information that revises the AMM. Therefore, we have not changed the AD to reflect this issue.

FAA's Determination and Proposed Requirements of the Supplemental NPRM

Certain changes discussed above expand the scope of the original NPRM; therefore, we have determined that it is necessary to reopen the comment period to provide additional opportunity for public comment on this supplemental NPRM.

Costs of Compliance

This supplemental NPRM would affect about 27 airplanes of U.S. registry. The required actions would take about 3 work hours per airplane, at an average labor rate of $65 per work hour. Based on these figures, the estimated cost of the proposed AD for U.S. operators is $5,265 or $195 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22524; Directorate Identifier 2005-NM-135-AD.

Comments Due Date

(a) The FAA must receive comments on this AD action by April 21, 2006.

Affected ADs

(b) None.

Applicability

(c) This AD applies to all Airbus Model A330-201, -202, -203, -223, -243, -301, -302, -303, -321, -322, -323, -341, -342, and -343 airplanes; Model A340-211, -212, -213, -311, -312, and -313 airplanes; and Model A340-541 and -642 airplanes; certificated in any category.

Unsafe Condition

(d) This AD results from a report that an emergency escape slide/slide raft (referred to hereafter as a “slide/raft”) failed to deploy properly during a deployment test. We are issuing this AD to detect and correct improper routing of the electrical harnesses of certain slide/rafts, which could prevent proper deployment of the slide/raft and delay evacuation of passengers and flightcrew during an emergency.

Compliance

(e) You are responsible for having the actions required by this AD performed within the compliance times specified, unless the actions have already been done.

Inspections and Corrective Actions

(f) Within 1,700 flight hours after the effective date of this AD: Inspect certain crew/passenger doors as required by paragraph (f)(1) or (f)(2), as applicable, of this AD to determine if slide/rafts having certain part numbers (P/N) are installed. A review of airplane maintenance records is acceptable in lieu of this inspection if the presence of the subject slide/rafts can be conclusively determined from that review.

(1) For Model A330-201, -202, -203, -223, -243, -301, -302, -303, -321, -322, -323, -341, -342, and -343 airplanes and Model A340-211, -212, -213, -311, -312, and -313 airplanes: On both right and left hand sides, inspect to determine the P/N of the slide/rafts of crew/passenger doors 1 and 4, and—only if it is a type 1 door—crew/passenger door 3. If crew/passenger door 3 is not a type 1 door, it is not subject to any requirement of this AD.

(i) If a slide/raft does not have P/N 7A1508-( ) or 7A1509-( ), no further action is required for that slide/raft by this paragraph.

(ii) If a slide/raft has P/N 7A1508-( ) or 7A1509-( ), before further flight, perform a general visual inspection of the electrical harness of the slide/raft and reroute the harness, as applicable, in accordance with paragraphs 4.2 through 4.2.4 of Airbus All Operators Telex (AOT) A330-25A3272, Revision 02, or Airbus AOT A340-25A4259, Revision 02; both dated June 1, 2005; as applicable.

(2) For Model A340-541 and -642 airplanes: On both right and left hand sides, inspect to determine the P/N of the slide/rafts of crew/passenger doors 1 and 4.

(i) If a slide/raft does not have P/N 7A1508-( ), no further action is required for that slide/raft by this paragraph.

(ii) If a slide/raft has P/N 7A1508-( ), before further flight, perform a general visual inspection of the electrical harness of that slide/raft and reroute the harness, as applicable, in accordance with paragraphs 4.2 through 4.2.4 of Airbus AOT A340-25A5091, Revision 02, dated June 1, 2005.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished According to Previous Issues of AOTs

(g) Actions accomplished before the effective date of this AD in accordance with the Airbus AOTs listed in Table 1 of this AD, as applicable, are considered acceptable for compliance with the corresponding actions specified in paragraph (f) of this AD.

Table 1.—Previous Issues of AOTs
Airbus AOT | Revision level | Date
A330-25A3272 ¹ | Original | March 17, 2005.
A330-25A3272-2005 ¹ | 01 | March 24, 2005.
A340-25A4259 ² | Original | March 17, 2005.
A340-25A4259-2005 ² | 01 | March 24, 2005.
A340-25A5091 ³ | Original | March 17, 2005.
A340-25A5091 ³ | 01 | March 24, 2005.
¹ For Model A330-200 and -300 series airplanes.
² For Model A340-200 and -300 series airplanes.
³ For Model A340-541 and -642 airplanes.

Parts Installation

(h) After the effective date of this AD, no person may install any slide/raft having P/N 7A1508-( ) or 7A1509-( ) on any airplane unless the electrical harness of that slide/raft is determined to be properly routed in accordance with the requirements of this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) French airworthiness directive F-2005-077, dated May 11, 2005, also addresses the subject of this AD.

Issued in Renton, Washington, on March 9, 2006.
Kalene C. Yanamura,
Acting Manager, Transport Airplane Directorate, Aircraft Certification Service.

[FR Doc. E6-4408 Filed 3-24-06; 8:45 am]

BILLING CODE 4910-13-P